DEPARTMENT OF DEFENSE

Department of the Army

32 CFR Part 635

[Docket No. USA-2010-0020]

RIN 0702-AA62

Law Enforcement Reporting

AGENCY: Department of the Army, DoD.

ACTION: Final rule.

SUMMARY: This rule adopts as final, with minor administrative changes, an interim rule of the Department of the Army to amend its regulation concerning law enforcement reporting for a number of statutory requirements to better coordinate law enforcement work and personnel both within the Department of the Army, across the Department of Defense (DoD), and with other Federal, State, and local law enforcement officials. The Department of the Army is making minor administrative changes based on the name change of a form and reporting system mentioned in the rule. The Centralized Operations Police Suite (COPS) Military Police Reporting System (MPRS) name is changed to Army Law Enforcement Reporting and Tracking System (ALERTS). The Department of the Army Form 3975, “Military Police Report” name was changed to “Law Enforcement Report”.

DATES: Effective April 28, 2016.

FOR FURTHER INFORMATION CONTACT: Ms. Katherine Brennan, (703) 692-6721.

SUPPLEMENTARY INFORMATION: On May 19, 2015, the Department of the Army published an interim rule in the Federal Register (80 FR 28545), as 32 CFR part 635, to amend its regulation concerning law enforcement reporting for a number of statutory requirements to better coordinate law enforcement work and personnel both within the Department of the Army, across DoD, and with other Federal, State, and local law enforcement officials.

The interim rule met law enforcement reporting requirements for selected criminal and national security incidents and provides law enforcement agencies, such as the Department of Homeland Security and Transportation Security Administration, with the most current information available. It also provided the Army chain of command with timely criminal information to respond to queries from the Department of Defense, the news media, and others. The rule established policies and procedures for offense and serious-incident reporting with the Army; for reporting to DoD and the Department of Justice, as appropriate; and for participating in the Federal Bureau of Investigation's National Crime Information Center, the Department of Justice's Criminal Justice Information System, the National Law Enforcement Telecommunications System, and State criminal justice systems. It also updated various reporting requirements described in various Federal statutes.

I. Public Comments

The publication of this rule finalizes the interim final rule published on May 19, 2015, and will ensure the Army is in compliance with multiple Department of Defense and Federal requirements. No comments were received on the interim rule; however, the Department of the Army is making minor administrative changes based on the name change of a form and reporting system mentioned in the rule.

II. Cost and Benefits

This rule will not have a monetary effect upon the public. This rule facilitates information sharing between authorized agencies to enhance protection of personnel and resources critical to DoD mission assurance.

III. Retrospective Review

The revisions to this rule will be reported in future status updates as part of DoD's retrospective plan under Executive Order 13563 completed in August 2011. DoD's full plan can be accessed at: http://www.regulations.gov/#!docketDetail;D=DOD-2011-OS-0036.

IV. Regulatory Procedures

A. Regulatory Flexibility Act

The Department of the Army has determined that the Regulatory Flexibility Act does not apply because the rule does not have a significant economic impact on a substantial number of small entities within the meaning of the Regulatory Flexibility Act, 5 U.S.C. 601-612.

B. Unfunded Mandates Reform Act

The Department of the Army has determined that the Unfunded Mandates Reform Act does not apply because the rule does not include a mandate that may result in estimated costs to State, local or tribal governments in the aggregate, or the private sector, of $100 million or more.

C. National Environmental Policy Act

The Department of the Army has determined that the National Environmental Policy Act does not apply because the rule does not have an adverse impact on the environment.

D. Paperwork Reduction Act

It has been certified that this rule does impose reporting or recordkeeping requirements under the Paperwork Reduction Act of 1995. OMB has approved these requirements under OMB Control Number 0702-0128.

E. Executive Order 12630 (Government Actions and Interference With Constitutionally Protected Property Rights)

The Department of the Army has determined that Executive Order 12630 does not apply because the rule does not impair private property rights.

F. Executive Order 12866 (Regulatory Planning and Review) and Executive Order 13563 (Improving Regulation and Regulatory Review)

The Department of the Army has determined that according to the criteria defined in Executive Order 12866 and Executive Order 13563 this rule is not a significant regulatory action.

G. Executive Order 13045 (Protection of Children From Environmental Health Risk and Safety Risks)

The Department of the Army has determined that the criteria of Executive Order 13045 do not apply because this rule does not implement or require actions impacting environmental health and safety risks on children.

H. Executive Order 13132 (Federalism)

The Department of the Army has determined that the criteria of Executive Order 13132 do not apply because this rule will not have a substantial effect on the States, on the relationship between the national government and the States, or on the distribution of power and responsibilities among the various levels of government.

List of Subjects in 32 CFR Part 635

Crime, Law, Law enforcement, Law enforcement officers, Military law.

Thomas Blair,
Chief, Law Enforcement Branch, Operations Division, Office of the Provost Marshal General, DA.

For reasons stated in the preamble the Department of the Army amends 32 CFR part 635 as follows:

PART 635—LAW ENFORCEMENT REPORTING

1. The authority citation for part 635 continues to read as follows:

Authority: 28 U.S.C. 534, 42 U.S.C. 10601, 18 U.S.C. 922, 10 U.S.C. 1562, 10 U.S.C. Chap. 47, 42 U.S.C. 16901 et seq., 10 U.S.C. 1565, 42 U.S.C. 14135a.

§ 635.1 [Amended]

2. Amend § 635.1 by removing “MPR” and adding in its place “Law Enforcement Report”.

§ 635.3 [Amended]

3. Amend § 635.3 by removing “MPRs” and adding in its place “law enforcement reports” in paragraph (c) introductory text and paragraph (c)(2).

4. Amend § 635.5 by:

a. Revising paragraph (b).

b. Removing “COPS MPRS” and adding in its place “ALERTS” in paragraphs (d) and (e) introductory text.

c. Removing “COPS MPRS” and adding in its place “ALERTS” in paragraph (e)(4) the first time it appears and removing “COPS MPRS system” and adding in its place “ALERTS” at the end of paragraph (e)(4).

The revision reads as follows:

§ 635.5 Name checks.

* * * * *

(b) Checks will be accomplished by a review of the Army's Law Enforcement Reporting and Tracking System (ALERTS). Information will be disseminated according to subpart B of this part.

* * * * *

5. Amend § 635.6 by:

a. Removing “Department of the Army Form 3975” and adding in its place “Raw Data File” and removing “Army's Centralized Operations Police Suite (COPS)” and adding in its place “Army's Law Enforcement Reporting and Tracking System (ALERTS)” in paragraph (c).

b. Revising paragraphs (e)(1) and (2).

The revisions read as follows:

§ 635.6 Registration of sex offenders on Army installations (inside and outside the Continental United States).

* * * * *

(e) * * *

(1) Complete a Raw Data File as an information entry into ALERTS.

(2) Ensure the sex offender produces either evidence of the qualifying conviction or the sex offender registration paperwork in order to complete the narrative with the state in which the sex offender was convicted, date of conviction, and results of conviction, to include length of time required to register and any specific court ordered restrictions.

* * * * *

§ 635.8 [Amended]

e. Amend § 635.8 by removing “MPR” and adding in its place “Law Enforcement Report” in paragraph (d)(3).

§ 635.17 [Amended]

f. Amend § 635.17 by removing “COPS” and adding in its place “ALERTS” in paragraph (b) introductory text.

[FR Doc. 2016-07054 Filed 3-28-16; 8:45 am]

BILLING CODE 5001-03-P